DEPARTMENT OF THE TREASURY

Submission for OMB Review; Comment Request

January 8, 2015.

The Department of the Treasury will submit the following information collection request to the Office of Management and Budget (OMB) for review and clearance in accordance with the Paperwork Reduction Act of 1995, Public Law 104-13, on or after the date of publication of this notice.

DATES: Comments should be received on or before February 12, 2015 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8140, Washington, DC 20220, or email at PRA@treasury.gov.

FOR FURTHER INFORMATION CONTACT: Copies of the submission may be obtained by emailing PRA@treasury.gov, calling (202) 927-5331, or viewing the entire information collection request at www.reginfo.gov.

Alcohol and Tobacco Tax and Trade Bureau (TTB)

OMB Number: 1513-0119.

Type of Review: Extension without change of a currently approved collection.

Title: Certification of Proper Cellar Treatment for Imported Natural Wine.

Abstract: Under provisions of the Internal Revenue Code 26 U.S.C. 5382(a)(3), importers of natural wine (except for natural wine produced and imported subject to certain international agreements or treaties) must certify compliance with proper cellar treatment standards. TTB therefore requires importers of natural wine to supply this certification in order to comply with that statutory requirement.

Affected Public: Private Sector: Businesses or other for-profits.

Estimated Annual Burden Hours: 6,600.

Dawn D. Wolfgang,
Treasury PRA Clearance Officer.

[FR Doc. 2015-00342 Filed 1-12-15; 8:45 am]

BILLING CODE 4810-31-P